DEPARTMENT OF THE INTERIOR

Bureau of Land Management

[LLIDI00000.L71220000.FM0000.LVTF7724IDOO (IDI-35073)]

Public Land Order No. 7772; Partial Revocation of the Executive Order dated April 17, 1926; Idaho

AGENCY: Bureau of Land Management, Interior.

ACTION: Public Land Order.

SUMMARY: This order partially revokes a withdrawal created by an Executive Order insofar as it affects 369.68 acres of public lands withdrawn from settlement, sale, location or entry under the public land laws for protection of springs and waterholes and designated as Public Water Reserve No. 107. This order also opens the lands to exchange.

DATES: Effective Date: June 29, 2011.

FOR FURTHER INFORMATION CONTACT: Laura Bingham, BLM, Idaho State Office, 1387 S. Vinnell Way, Boise, Idaho 83709, (208) 373-3866 or Jan Parmenter, BLM, Idaho Falls District Office, 1405 Hollipark Drive, Idaho Falls, Idaho 83401, (208) 524-7562.

SUPPLEMENTARY INFORMATION: The Bureau of Land Management has determined that portions of the withdrawal created by an Executive Order dated April 17, 1926, for Public Water Reserve No. 107 are no longer used for the purpose for which the lands were withdrawn, and partial revocation of the withdrawal is needed to facilitate a pending land exchange.

Order

By virtue of the authority vested in the Secretary of the Interior by Section 204 of the Federal Land Policy and Management Act of 1976, 43 U.S.C. 1714, it is ordered as follows:

1. The withdrawal created by an Executive Order dated April 17, 1926, which created Public Water Reserve No. 107, is hereby revoked insofar as it affects the following described lands:

Boise Meridian

T. 11 N., R. 16 E.,

Sec. 4, lot 5;

Sec. 9, lot 5;

Sec. 10, lots 1, 4, 5, and 8, and NE¼SW¼; Sec. 11, lot 1, SE¼NW¼, NE¼NE¼;SW¼W½NE¼SW¼, and E½SE¼NE¼SW¼, Sec. 12, W½NW¼NW¼NW¼, S½NW¼NW¼, and S½NE¼NW¼.

T. 11 N., R. 17 E.,

Sec. 6, lots 61 and 77.

The areas described aggregate 369.68 acres in Custer County.

2. At 9 a.m., on June 29, 2011, the lands described in Paragraph 1 will be open to exchange pursuant to Section 206 of the Federal Land Policy and Management Act of 1976, as amended, 43 U.S.C. 1716, subject to valid existing rights, the provisions of existing withdrawals, other segregations of record and the requirements of applicable law.

Authority: 43 CFR part 2370.

Dated: June 15, 2011.
Wilma A. Lewis,
Assistant Secretary—Land and Minerals Management.

[FR Doc. 2011-16401 Filed 6-28-11; 8:45 am]

BILLING CODE 4310-GG-P